DEPARTMENT OF COMMERCE

International Trade Administration

[C-570-984]

Drawn Stainless Steel Sinks From the People's Republic of China: Countervailing Duty Investigation

AGENCY: Import Administration, International Trade Administration, Department of Commerce.

SUMMARY: The Department of Commerce (“Department”) is aligning the final countervailing duty determination with the final antidumping duty determination of the above referenced case.

DATES: Effective Date: September 20, 2012.

FOR FURTHER INFORMATION CONTACT: Shane Subler or Hermes Pinilla, AD/CVD Operations, Office 1, Import Administration, International Trade Administration, U.S. Department of Commerce, 14th Street and Constitution Avenue NW., Washington, DC 20230; telephone: (202) 482-0189 or (202) 482-3477, respectively.

Background

On March 27, 2012, the Department of Commerce (“the Department”) initiated antidumping and countervailing duty investigations of drawn stainless steel sinks from the People's Republic of China.¹ On August 6, 2012, the Department published its preliminary countervailing duty determination.²

¹ See Drawn Stainless Steel Sinks From the People's Republic of China: Initiation of Countervailing Duty Investigation, 77 FR 18211 (March 27, 2012), and, also, see Drawn Stainless Steel Sinks From the People's Republic of China: Initiation of Antidumping Duty Investigation, 77 FR 18207 (March 27, 2012).

² See Drawn Stainless Steel Sinks From the People's Republic of China: Preliminary Affirmative Countervailing Duty Determination, 77 FR 46717 (August 6, 2012).

Scope of the Investigation

The products covered by the scope of this investigation are stainless steel sinks with single or multiple drawn bowls, with or without drain boards, whether finished or unfinished, regardless of type of finish, gauge, or grade of stainless steel (“SS sinks”). Mounting clips, fasteners, seals, and sound-deadening pads are also covered by the scope of this investigation if they are included within the sales price of the SS sinks.³

³ Mounting clips, fasteners, seals, and sound deadening pads are not covered by the scope of this investigation if they are not included within the sales price of the SS sinks, regardless of whether they are shipped with or entered with SS sinks.

The products covered by this investigation are currently classified in the Harmonized Tariff Schedule of the United States (“HTSUS”) under statistical reporting numbers 7324.10.0000 and 7324.10.0010. Although the HTSUS subheading is provided for convenience and customs purposes, the written product description, available in Preliminary Affirmative Countervailing Duty Determination: Drawn Stainless Steel Sinks From the People's Republic of China, 77 FR 46717 (August 6, 2012), remains dispositive.

Alignment of Final Determination

On August 3, 2012, petitioner Elkay Manufacturing Company submitted a letter, requesting alignment of the final countervailing duty (CVD) determination with the final antidumping duty (AD) determination in the companion AD investigation. This request was timely pursuant to 19 CFR 351.210(i). Therefore, in accordance with section 705(a)(1) of the Tariff Act of 1930, as amended, and 19 CFR 351.210(b)(4), the Department will issue the final CVD determination on the same date as the final AD determination, which is currently scheduled for December 11, 2012.

Dated: September 14, 2012.
Paul Piquado,
Assistant Secretary for Import Administration.

[FR Doc. 2012-23253 Filed 9-19-12; 8:45 am]

BILLING CODE 3510-DS-P